SECURITIES AND EXCHANGE COMMISSION

[Release No. 34-83936; File No. SR-NYSEArca-2018-60]

Self-Regulatory Organizations; NYSE Arca, Inc.; Notice of Filing of Proposed Rule Change To List and Trade Shares of the First Trust Long Duration Opportunities ETF Under NYSE Arca Rule 8.600-E

August 24, 2018.

Correction

In notice document 2018-18781, appearing on pages 44312 through 44320, in the issue of Thursday, August 30, 2018, make the following correction:

On page 44320, in the second column, in the first paragraph, in the last row, “October 1, 2018” should read “September 20, 2018”.

[FR Doc. C1-2018-18781 Filed 9-20-18; 8:45 am]

BILLING CODE 1301-00-D